DEPARTMENT OF AGRICULTURE

Animal and Plant Health Inspection Service

[Docket No. APHIS-2014-0094]

Availability of an Environmental Assessment for the Biological Control of Emerald Ash Borer

AGENCY: Animal and Plant Health Inspection Service, USDA.

ACTION: Notice of availability and request for comments.

SUMMARY: We are advising the public that the Animal and Plant Health Inspection Service has prepared a draft environmental assessment relative to the control of emerald ash borer, Agrilus planipennis. The environmental assessment considers the effects of, and alternatives to, the field release of a parasitic wasp, Spathius galinae, into the continental United States for use as a biological control agent to reduce the severity of emerald ash borer infestations. We are making the environmental assessment available to the public for review and comment.

DATES: We will consider all comments that we receive on or before March 16, 2015.

ADDRESSES: You may submit comments by either of the following methods:

• Federal eRulemaking Portal: Go to http://www.regulations.gov/#!docketDetail;D=APHIS-2014-0094.

• Postal Mail/Commercial Delivery: Send your comment to Docket No. APHIS-2014-0094, Regulatory Analysis and Development, PPD, APHIS, Station 3A-03.8, 4700 River Road Unit 118, Riverdale, MD 20737-1238.

Supporting documents and any comments we receive on this docket may be viewed at http://www.regulations.gov/#!docketDetail;D=APHIS-2014-0094 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Shirley Wager-Pagé, Assistant Director, Pest Permitting Branch, PPQ, APHIS, 4700 River Road Unit 133, Riverdale, MD 20737-1231; (301) 851-2323.

SUPPLEMENTARY INFORMATION: The emerald ash borer (EAB), Agrilus planipennis, is an invasive wood-boring beetle from Asia threatening the ash trees (Fraxinus spp.) in the United States. EAB larvae feed on ash phloem, cutting off the movement of resources within the tree and killing the tree in 4-5 years. EAB is able to attack and kill healthy trees in both natural and urban environments and is well suited for climate conditions in the continental United States. As a result, EAB infestations have been detected in 24 states: Arkansas, Colorado, Connecticut, Georgia, Illinois, Indiana, Iowa, Kansas, Kentucky, Maryland, Massachusetts, Michigan, Minnesota, Missouri, New Hampshire, New Jersey, New York, North Carolina, Ohio, Pennsylvania, Tennessee, Virginia, West Virginia, and Wisconsin. The Animal and Plant Health Inspection Service (APHIS) is proposing to issue permits for the field release of a parasitic wasp, Spathius galinae, into the continental United States to reduce the severity of EAB infestations.

APHIS' review and analysis of the proposed action are documented in detail in a draft environmental assessment (EA) entitled “Field Release of the Parasitoid Spathius galinae for the Biological Control of the Emerald Ash Borer (Agrilus planipennis) in the Continental United States” (January 2014). We are making the EA available to the public for review and comment. We will consider all comments that we receive on or before the date listed under the heading DATES at the beginning of this notice.

The EA may be viewed on the Regulations.gov Web site or in our reading room (see ADDRESSES above for a link to Regulations.gov and information on the location and hours of the reading room). You may request paper copies of the draft EA by calling or writing to the person listed under FOR FURTHER INFORMATION CONTACT. Please refer to the title of the EA when requesting copies.

The EA has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 6th day of February 2015.
Kevin Shea,
Administrator, Animal and Plant Health Inspection Service.

[FR Doc. 2015-02914 Filed 2-11-15; 8:45 am]

BILLING CODE 3410-34-P